DEPARTMENT OF ENERGY

Federal Energy Regulatory Commission

[Project No. 1494-461]

Grand River Dam Authority; Notice of Waiver Period for Water Quality Certification Application

On September 25, 2023, Grand River Dam Authority submitted to the Federal Energy Regulatory Commission (Commission) a copy of its application for a Clean Water Act section 401(a)(1) water quality certification filed with Oklahoma Department of Environmental Quality (Oklahoma DEQ), in conjunction with the above captioned project. Pursuant to 40 CFR 121.6 and section [4.34(b)(5), 5.23(b), 153.4, or 157.22] of the Commission's regulations,¹ we hereby notify the Oklahoma DEQ of the following:

¹ 18 CFR [4.34(b)(5)/5.23(b)/153.4/157.22].

Date of Receipt of the Certification Request: September 25, 2023.

Reasonable Period of Time to Act on the Certification Request: September 25, 2024.

If Oklahoma DEQ fails or refuses to act on the water quality certification request on or before the above date, then the agency certifying authority is deemed waived pursuant to section 401(a)(1) of the Clean Water Act, 33 U.S.C. 1341(a)(1).

Dated: October 17, 2023.
Kimberly D. Bose,
Secretary.

[FR Doc. 2023-23331 Filed 10-20-23; 8:45 am]

BILLING CODE 6717-01-P